RAILROAD RETIREMENT BOARD

Sunshine Act Meeting

The meeting of the Railroad Retirement Board which was to be held on June 21, 2000, 9 a.m., at the Board's meeting room on the 8th floor of its headquarters building, 844 North Rush Street, Chicago, Illinois 60611, has been canceled.

The person to contact for more information is Beatrice Ezerski, Secretary to the Board, Phone No. 312-751-4920.

Dated: June 15, 2000.
Beatrice Ezerski,
Secretary to the Board.

[FR Doc. 00-15579 Filed 6-16-00; 10:35 am]

BILLING CODE 7905-01-M